DEPARTMENT OF TRANSPORTATION

Maritime Administration

[Docket Number MARAD-2019-0109]

Port of Long Beach (POLB or Port) Pier B On-Dock Rail Support Facility Project; Combined Final Environmental Impact Statement/Record of Decision and Final Section 4(f) Evaluation Notice of Availability

AGENCY: Maritime Administration, Department of Transportation (DOT).

ACTION: Notice.

SUMMARY: The U.S. Department of Transportation (DOT), Maritime Administration (MARAD) announces the availability of the Combined Final Environmental Impact Statement/Record of Decision and Final Section 4(f) Evaluation, (FEIS/ROD) for the Port of Long Beach (POLB or Port) Pier B On-Dock Rail Support Facility Project (Project) to support an application to DOT for Railroad Rehabilitation & Improvement Financing (RRIF) and potentially other federal funding programs. MARAD has issued a single document that consists of a FEIS/ROD. Therefore, the 30-day wait/review period under NEPA does not apply to this action.

ADDRESSES: The FEIS/ROD, supporting information, and comments are available for viewing and download at https://www.regulations.gov under docket number MARAD-2019-0109.

FOR FURTHER INFORMATION CONTACT: Alan Finio, Office of Environmental Compliance, at telephone number: 202-503-6643 or by email at Alan.Finio@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours. Additionally, if you go to the online docket and sign up for email alerts, you will be notified if other Project documents are posted.

SUPPLEMENTARY INFORMATION: The Project is designed to address current traffic and cargo distribution bottlenecks into, out of, and within the POLB. The Project also includes consideration for: anticipated future demand for cargo movement via on-dock rail; maximization of on-dock intermodal operations to reach the long-term goal of 30 to 35 percent of cargo containers to be handled by on-dock rail; provision of a facility that can accept and handle longer container trains; and provision of a rail yard that is cost effective and fiscally prudent. The Port is applying to the RRIF Program, and potentially other federal funding programs, to support the Project.

Summary of the Project

The City of Long Beach (COLB), acting by and through its Board of Harbor Commissioners (BHC), is proposing to construct the 12th Street Alternative in the POLB. The purposes of the proposed reconfiguration and expansion Project are to: (a) provide a sufficient facility to accommodate the expected demand of cargo to be moved via on-dock rail into the foreseeable future; (b) maximize on-dock intermodal operations to reach the long-term goal of 30 to 35 percent of cargo containers to be handled by on-dock rail (c) provide a facility that can accept and handle longer container trains; and (d) provide a rail yard that is cost effective and fiscally prudent.

The proposed Project would be constructed in three phases over an estimated seven years and has an estimated opening year of 2025. Components of the proposed Project would include:

• Adding 31 yard tracks and five arrival/departure tracks, thereby expanding the yard from an existing 12 tracks (2 main line tracks, 10-yard tracks, and no arrival/departure tracks) to a total of 48 tracks (2 main tracks, 41 yard tracks, and five arrival/departure tracks);

• Providing for up to 10,000-foot long receiving/departure tracks;

• Widening the existing rail bridge over Dominguez Channel to accommodate one additional track; and

• Constructing an area for locomotive refueling within the yard.

Realignments and closures of some roadways would be required. Pier B Street would be realigned to the south, its geometrics would be improved, and two lanes of traffic in each direction would be provided.

• The realignment of Pier B Street would require the reconstruction of two intersections, at Anaheim Way and Edison Avenue.

• The existing at-grade 9th Street railroad grade crossing would be closed, and the Shoemaker ramps removed.

• Pico Avenue would be realigned to the west beginning at the I-710 ramps south to approximately Pier D Street, allowing space for four additional tracks between Pico Avenue and the I-710 freeway.

• Areas needed for new rail tracks would require the closure of portions of 9th, 10th, 11th, and 12th streets and Edison, Jackson, Santa Fe, Canal, Caspian, Harbor, and Fashion avenues between Anaheim Street and Pier B Street, in the City of Long Beach.

• Portions of Farragut, Foote, Cushing, Macdonough, and Schley avenues would be closed in the vicinity of existing railroad right-of-way (ROW) in the City of Long Beach.

The proposed Project would be located in two POLB Planning Districts (the Northeast Harbor and North Harbor); the site also includes the Wilmington-Harbor City Community Plan Area of the City of Los Angeles. The Project site is generally situated between Dominguez Channel to the west, Interstate 710 (I-710) to the east, Ocean Boulevard to the south, and Anaheim Street to the north. The proposed Project area includes rail tracks that extend west beyond the Terminal Island Freeway (State Route 103) to just west of Dominguez Channel, where they connect with the Alameda Corridor, and also south as far as Ocean Boulevard. In addition to privately owned property, a variety of public agencies own property within the Project site and in its vicinity, including the POLB, COLB, City of Los Angeles, Port of Los Angeles, Union Pacific, and Burlington Northern Santa Fe railroads; Alameda Corridor Transportation Authority; Los Angeles County Flood Control District; and Southern California Edison.

(Authority: 49 CFR 1.93)

By Order of the Maritime Administrator.
T. Mitchell Hudson, Jr.,
Secretary, Maritime Administration.

[FR Doc. 2022-16585 Filed 8-2-22; 8:45 am]

BILLING CODE 4910-81-P